DEPARTMENT OF ENERGY

Federal Energy Regulatory Commission

Combined Notice of Filings

Take notice that the Commission has received the following Natural Gas Pipeline Rate and Refund Report filings:

Filings Instituting Proceedings

Docket Numbers: RP16-666-000.

Applicants: Equitrans, L.P.

Description: Compliance filing Notice Regarding Non-Jurisdictional Gathering Facilities (PEBC1137 PEBC1237).

Filed Date: 3/1/16.

Accession Number: 20160301-5009.

Comments Due: 5 p.m. ET 3/14/16.

Docket Numbers: RP16-667-000.

Applicants: Boardwalk Storage Company, LLC.

Description: Section 4(d) Rate Filing: Housekeeping Matters to be effective 4/1/2016.

Filed Date: 3/1/16.

Accession Number: 20160301-5086.

Comments Due: 5 p.m. ET 3/14/16.

Docket Numbers: RP16-668-000.

Applicants: Black Hills Shoshone Pipeline, LLC.

Description: Compliance filing Annual Adjustment for Lost and Unaccounted for Gas Percentage.

Filed Date: 3/1/16.

Accession Number: 20160301-5093.

Comments Due: 5 p.m. ET 3/14/16.

Docket Numbers: RP16-669-000.

Applicants: Columbia Gas Transmission, LLC.

Description: Section 4(d) Rate Filing: EPCA 2016 to be effective 4/1/2016.

Filed Date: 3/1/16.

Accession Number: 20160301-5099.

Comments Due: 5 p.m. ET 3/14/16.

Docket Numbers: RP16-670-000.

Applicants: Columbia Gas Transmission, LLC.

Description: Section 4(d) Rate Filing: RAM 2016 to be effective 4/1/2016.

Filed Date: 3/1/16.

Accession Number: 20160301-5123.

Comments Due: 5 p.m. ET 3/14/16.

Docket Numbers: RP16-671-000.

Applicants: WBI Energy Transmission, Inc.

Description: Section 4(d) Rate Filing: 2016 Annual Fuel & Electric Power Reimbursement to be effective 4/1/2016.

Filed Date: 3/1/16.

Accession Number: 20160301-5128.

Comments Due: 5 p.m. ET 3/14/16.

Docket Numbers: RP16-672-000.

Applicants: Millennium Pipeline Company, LLC.

Description: Section 4(d) Rate Filing: RAM 2016 to be effective 4/1/2016.

Filed Date: 3/1/16.

Accession Number: 20160301-5136.

Comments Due: 5 p.m. ET 3/14/16.

Docket Numbers: RP16-673-000.

Applicants: Kern River Gas Transmission Company.

Description: Section 4(d) Rate Filing: 2016 Daggett Surcharges to be effective 4/1/2016.

Filed Date: 3/1/16.

Accession Number: 20160301-5156.

Comments Due: 5 p.m. ET 3/14/16.

Docket Numbers: RP16-674-000.

Applicants: White River Hub, LLC.

Description: Section 4(d) Rate Filing: ? 10.2 Version 1.0.0 to be effective 4/1/2016.

Filed Date: 3/1/16.

Accession Number: 20160301-5166.

Comments Due: 5 p.m. ET 3/14/16.

Docket Numbers: RP16-675-000.

Applicants: Questar Pipeline Company.

Description: Section 4(d) Rate Filing: ? 10.3 Version 2.0.0 to be effective 4/1/2016.

Filed Date: 3/1/16.

Accession Number: 20160301-5169.

Comments Due: 5 p.m. ET 3/14/16.

Docket Numbers: RP16-676-000.

Applicants: Questar Southern Trails Pipeline Company.

Description: Section 4(d) Rate Filing: ? 11.2 Version 2.0.0 to be effective 4/1/2016.

Filed Date: 3/1/16.

Accession Number: 20160301-5173.

Comments Due: 5 p.m. ET 3/14/16.

Docket Numbers: RP16-677-000.

Applicants: Columbia Gas Transmission, LLC.

Description: Section 4(d) Rate Filing: System Map Tariff Update to be effective 4/1/2016.

Filed Date: 3/1/16.

Accession Number: 20160301-5174.

Comments Due: 5 p.m. ET 3/14/16.

Docket Numbers: RP16-678-000.

Applicants: Columbia Gulf Transmission, LLC.

Description: Section 4(d) Rate Filing: TRA 2016 to be effective 4/1/2016.

Filed Date: 3/1/16.

Accession Number: 20160301-5175.

Comments Due: 5 p.m. ET 3/14/16.

Docket Numbers: RP16-679-000.

Applicants: Columbia Gulf Transmission, LLC.

Description: Section 4(d) Rate Filing: System Map Tariff Update to be effective 4/1/2016.

Filed Date: 3/1/16.

Accession Number: 20160301-5180.

Comments Due: 5 p.m. ET 3/14/16.

Docket Numbers: RP16-680-000.

Applicants: Northern Natural Gas Company.

Description: Section 4(d) Rate Filing: 20160301 Negotiated Rates to be effective 3/2/2016.

Filed Date: 3/1/16.

Accession Number: 20160301-5182.

Comments Due: 5 p.m. ET 3/14/16.

Docket Numbers: RP16-681-000.

Applicants: Central Kentucky Transmission Company.

Description: Section 4(d) Rate Filing: RAM 2016 to be effective 4/1/2016.

Filed Date: 3/1/16.

Accession Number: 20160301-5186.

Comments Due: 5 p.m. ET 3/14/16.

Docket Numbers: RP16-682-000.

Applicants: Millennium Pipeline Company, LLC.

Description: Section 4(d) Rate Filing: System Map Tariff Update to be effective 4/1/2016.

Filed Date: 3/1/16.

Accession Number: 20160301-5187.

Comments Due: 5 p.m. ET 3/14/16.

Docket Numbers: RP16-683-000.

Applicants: Gulf South Pipeline Company, LP.

Description: Section 4(d) Rate Filing: Cap Rel Neg Rate Agmt (Atlanta Gas 8438 to various eff 3-1-2016) to be effective 3/1/2016.

Filed Date: 3/1/16.

Accession Number: 20160301-5188.

Comments Due: 5 p.m. ET 3/14/16.

Docket Numbers: RP16-684-000.

Applicants: Gulf South Pipeline Company, LP.

Description: Section 4(d) Rate Filing: Cap Rel Neg Rate Agmt (Petrohawk 41455 to Texla 46029) to be effective 3/1/2016.

Filed Date: 3/1/16.

Accession Number: 20160301-5189.

Comments Due: 5 p.m. ET 3/14/16.

Docket Numbers: RP16-685-000.

Applicants: Gulf South Pipeline Company, LP.

Description: Section 4(d) Rate Filing: Cap Rel Neg Rate Agmt (EOG 34687 to Sequent 46028) to be effective 3/1/2016.

Filed Date: 3/1/16.

Accession Number: 20160301-5190.

Comments Due: 5 p.m. ET 3/14/16.

Docket Numbers: RP16-686-000.

Applicants: Gulf South Pipeline Company, LP.

Description: Section 4(d) Rate Filing: Amendment to Neg Rate Agmt (Methanex 42805-6) to be effective 3/1/2016.

Filed Date: 3/1/16.

Accession Number: 20160301-5191.

Comments Due: 5 p.m. ET 3/14/16.

Docket Numbers: RP16-687-000.

Applicants: Central Kentucky Transmission Company.

Description: Section 4(d) Rate Filing: System Map Tariff Update to be effective 4/1/2016.

Filed Date: 3/1/16.

Accession Number: 20160301-5192.

Comments Due: 5 p.m. ET 3/14/16.

Docket Numbers: RP16-688-000.

Applicants: Dauphin Island Gathering Partners.

Description: Storm Surcharge Filing of Dauphin Island Gathering Partners.

Filed Date: 3/1/16.

Accession Number: 20160301-5193.

Comments Due: 5 p.m. ET 3/14/16.

Docket Numbers: RP16-689-000.

Applicants: Crossroads Pipeline Company.

Description: Section 4(d) Rate Filing: System Map Tariff Update to be effective 4/1/2016.

Filed Date: 3/1/16.

Accession Number: 20160301-5195.

Comments Due: 5 p.m. ET 3/14/16.

Docket Numbers: RP16-690-000.

Applicants: Hardy Storage Company, LLC.

Description: Section 4(d) Rate Filing: System Map Tariff Update to be effective 4/1/2016.

Filed Date: 3/1/16.

Accession Number: 20160301-5201.

Comments Due: 5 p.m. ET 3/14/16.

Docket Numbers: RP16-691-000.

Applicants: KPC Pipeline, LLC.

Description: Request for thirty (30) day Extension of Time to Submit Annual Retainage Filing of KPC Pipeline, LLC.

Filed Date: 3/1/16.

Accession Number: 20160301-5218.

Comments Due: 5 p.m. ET 3/14/16.

Docket Numbers: RP16-692-000.

Applicants: Columbia Gas Transmission, LLC.

Description: 2015 Operational Transactions Report of Columbia Gas Transmission, LLC.

Filed Date: 3/1/16.

Accession Number: 20160301-5219.

Comments Due: 5 p.m. ET 3/14/16.

Docket Numbers: RP16-693-000.

Applicants: Crossroads Pipeline Company.

Description: Section 4(d) Rate Filing: TRA 2016 to be effective 4/1/2016.

Filed Date: 3/1/16.

Accession Number: 20160301-5224.

Comments Due: 5 p.m. ET 3/14/16.

Docket Numbers: RP16-694-000.

Applicants: Columbia Gulf Transmission, LLC.

Description: 2015 Operational Transactions Report of Columbia Gulf Transmission, LLC.

Filed Date: 3/1/16.

Accession Number: 20160301-5256.

Comments Due: 5 p.m. ET 3/14/16.

Docket Numbers: RP16-695-000.

Applicants: KO Transmission Company.

Description: Section 4(d) Rate Filing: Transportation Retainage Adjustment Filing 2016 to be effective 4/1/2016.

Filed Date: 3/1/16.

Accession Number: 20160301-5291.

Comments Due: 5 p.m. ET 3/14/16.

Docket Numbers: RP16-696-000.

Applicants: Transcontinental Gas Pipe Line Company.

Description: Section 4(d) Rate Filing: WSS-OA Incremental Rate Filing to be effective 4/1/2016.

Filed Date: 3/1/16.

Accession Number: 20160301-5312.

Comments Due: 5 p.m. ET 3/14/16.

Docket Numbers: RP16-697-000.

Applicants: Crossroads Pipeline Company.

Description: 2015 Operational Transactions Report of Crossroads Pipeline Company.

Filed Date: 3/1/16.

Accession Number: 20160301-5359.

Comments Due: 5 p.m. ET 3/14/16.

Docket Numbers: RP16-698-000.

Applicants: Equitrans, L.P.

Description: Section 4(d) Rate Filing: Negotiated Capacity Release Agreements—3/1/2016 to be effective 3/1/2016.

Filed Date: 3/1/16.

Accession Number: 20160301-5364.

Comments Due: 5 p.m. ET 3/14/16.

Docket Numbers: RP16-699-000.

Applicants: Shell Energy North America (US), L.P.,BG Energy Merchants, LLC.

Description: Joint Petition for Temporary Waiver of Commission Policies, Capacity Release Regulations and Related Tariff Provisions of Shell Energy North America (US), L.P., and BG Energy Merchants, LLC.

Filed Date: 3/1/16.

Accession Number: 20160301-5365.

Comments Due: 5 p.m. ET 3/14/16.

Docket Numbers: RP16-700-000.

Applicants: Guardian Pipeline, L.L.C.

Description: Section 4(d) Rate Filing: EPCR Semi-Annual Adjustment—Spring 2016 to be effective 4/1/2016.

Filed Date: 3/1/16.

Accession Number: 20160301-5381.

Comments Due: 5 p.m. ET 3/14/16.

Docket Numbers: RP16-701-000.

Applicants: Colorado Interstate Gas Company, L.L.C.

Description: Section 4(d) Rate Filing: FL&U Effective 4/1/16 to be effective 4/1/2016.

Filed Date: 3/1/16.

Accession Number: 20160301-5384.

Comments Due: 5 p.m. ET 3/14/16.

Docket Numbers: RP16-702-000.

Applicants: Rockies Express Pipeline LLC.

Description: Section 4(d) Rate Filing: FL&U Electric Power Periodic Rate Adjustment to be effective 4/1/2016.

Filed Date: 3/1/16.

Accession Number: 20160301-5388.

Comments Due: 5 p.m. ET 3/14/16.

Docket Numbers: RP16-703-000.

Applicants: Viking Gas Transmission Company.

Description: Section 4(d) Rate Filing: Annual LMCRA—Spring 2016 to be effective 4/1/2016.

Filed Date: 3/1/16.

Accession Number: 20160301-5391.

Comments Due: 5 p.m. ET 3/14/16.

Docket Numbers: RP16-704-000.

Applicants: Columbia Gas Transmission, LLC.

Description: Section 4(d) Rate Filing: TCRA 2016 to be effective 4/1/2016.

Filed Date: 3/1/16.

Accession Number: 20160301-5395.

Comments Due: 5 p.m. ET 3/14/16.

Docket Numbers: RP16-705-000.

Applicants: Viking Gas Transmission Company.

Description: Compliance filing Semi-Annual FLRP—Spring 2016.

Filed Date: 3/1/16.

Accession Number: 20160301-5416.

Comments Due: 5 p.m. ET 3/14/16.

Docket Numbers: RP16-706-000.

Applicants: Hardy Storage Company, LLC.

Description: 2015 Operational Transactions Report of Hardy Storage Company, LLC.

Filed Date: 3/1/16.

Accession Number: 20160301-5440.

Comments Due: 5 p.m. ET 3/14/16.

Docket Numbers: RP16-707-000.

Applicants: TransColorado Gas Transmission Company.

Description: 2015 Annual Fuel Gas Reimbursement Percentage Report of TransColorado Gas Transmission Company, L.L.C.

Filed Date: 3/1/16.

Accession Number: 20160301-5470.

Comments Due: 5 p.m. ET 3/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2016.
Nathaniel J. Davis, Sr.,
Deputy Secretary.

[FR Doc. 2016-05479 Filed 3-10-16; 8:45 am]

BILLING CODE 6717-01-P